DEPARTMENT OF HEALTH AND HUMAN SERVICES

National Institutes of Health

National Institute of Child Health and Human Development; Amended Notice of Meeting.

Notice is hereby given of a change in the meeting of the National Institute of Child Health and Human Development Special Emphasis Panel, April 8, 2004, 2:30 p.m. to April 8, 2004, 3:30 p.m., NICHD, 6100 Executive Blvd, Room 5B01, Bethesda, MD, 20892 which was published in the Federal Register on March 17, 2004, 69 FR 12705.

The meeting has been changed to April 7, 2004, from 2:30 p.m. to 3:30 p.m. The location is the same. The meeting is closed to the public.

Dated: March 23, 2004.
LaVerne Y. Stringfield,
Director, Office of Federal Advisory Committee Policy.

[FR Doc. 04-7055 Filed 3-29-04; 8:45 am]

BILLING CODE 4140-01-M